INTERNATIONAL TRADE COMMISSION

[Inv. No. 337-TA-552]

Certain Flash Memory Devices, and Components Thereof, and Products Containing Such Devices and Components; Notice of Commission Decision Not To Review an Initial Determination Granting Complainant's Motion To Amend the Complaint

AGENCY: U.S. International Trade Commission.

ACTION: Notice.

SUMMARY: Notice is hereby given that the U.S. International Trade Commission has determined not to review an initial determination (“ID”) issued by the presiding administrative law judge (“ALJ”) granting complainant's motion to amend the complaint by adding claim 5 of U.S. Patent No. 5,150,178 to the investigation.

FOR FURTHER INFORMATION CONTACT: Steven Crabb, Esq., Office of the General Counsel, U.S. International Trade Commission, 500 E Street, SW., Washington, DC 20436, telephone (202) 708-5432. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: This investigation was instituted by the Commission on October 31, 2005, based on a complaint filed by Toshiba Corporation of Tokyo, Japan (“Toshiba”) under section 337 of the Tariff Act of 1930, as amended, 19 U.S.C. 1337. 70 FR 67192-193 (November 4, 2005). The complainant alleged violations of section 337 in the importation and sale of certain flash memory devices and components thereof, and products containing such devices and components, by reason of infringement of claims 1-4 of U.S. Patent No. 5,150,178, claims 1 and 6-7 of U.S. Patent No. 5,270,969, and claims 1 and 4 of U.S. Patent No. 5,517,449. The complainant named Hynix Semiconductor of Ichon-si, Republic of Korea, and Hynix Semiconductor America, Inc. of San Jose, California (collectively “Hynix”) as respondents.

On November 21, 2005, Complainant Toshiba motioned for leave to amend the complaint to add claim 5 of U.S. Patent No. 5,150,178. On December 1, 2005, Hynix and the Investigative Attorney (“IA”) filed responses to the motion. Hynix did not oppose the motion, and the IA supported the motion. On December 2, 2005, the ALJ issued an ID (Order No. 4) granting Complainant Toshiba's motion to amend the complainant. The Commission has determined not to review this ID.

The authority for the Commission's determination is contained in section 337 of the Tariff Act of 1930, as amended (19 U.S.C. 1337), and in section 210.42(h) of the Commission's Rules of Practice and Procedure (19 CFR 210.42(h)).

Issued: December 28, 2005.
By order of the Commission.
Marilyn R. Abbott,
Secretary to the Commission.

[FR Doc. E5-8208 Filed 12-30-05; 8:45 am]

BILLING CODE 7020-02-P